DEPARTMENT OF THE INTERIOR

Office of Surface Mining Reclamation and Enforcement

30 CFR Part 938

[PA-148-FOR]

Pennsylvania Regulatory Program

AGENCY: Office of Surface Mining Reclamation and Enforcement (OSM), Interior.

ACTION: Proposed rule; extension of comment period and notice of hearing.

SUMMARY: We are reopening the public comment period on the proposed Pennsylvania Regulatory Program rule published on July 31, 2006. The comment period is being reopened in order to afford the public more time to comment and allow enough time to hold a public hearing which has been requested by several individuals. We are also notifying the public of the date, time and location for the public hearing.

DATES: Comments on the proposed rule must be received on or before 4 p.m., local time on September 28, 2006. The public hearing will be held on Thursday, September 21, 2006, at 7 p.m. local time.

ADDRESSES: You may submit written or electronic comments identified by PA-148, by any of the following methods:

• E-Mail: grieger@osmre.gov. Include docket number PA-148-FOR in the subject line of the message.

• Mail/Hand-Delivery/Courier: George Rieger, Director, Pittsburgh Field Division, Office of Surface Mining Reclamation and Enforcement, 415 Market Street, Room 304, Harrisburg, Pennsylvania 17101

• Federal e-Rulemaking Portal: http://www.regulations.gov. Follow the instructions for submitting comments.

For detailed instructions on submitting comments and additional information on the rulemaking process, see “III. Public Comment Procedures” in the SUPPLEMENTARY INFORMATION section of the proposed rule published on July 31, 2006.

Public hearing: The public hearing will be held at The Days Inn, located at 3620 Route 31, Donegal, Pennsylvania 15628, telephone: 724-593-7536, on September 21, 2006, at 7 p.m. local time.

FOR FURTHER INFORMATION CONTACT: George Rieger, Director, Pittsburgh Field Division, Telephone: (717) 782-4036, e-mail: grieger@osmre.gov.

SUPPLEMENTARY INFORMATION: On July 31, 2006 (71 FR 43087), we published a proposed rule that would revise the Pennsylvania Regulatory Program. The revisions would address blasting for the development of shafts for underground mines and make administrative changes to regulations relating to blasting in 25 Pa. Code Chapters 87, 88, 89 and 210. Specifically, the proposed changes would: (1) Clarify that the use of explosives in connection with the construction of a mine opening for an underground coal mine is a surface mining activity subject to the applicable requirements in Chapters 87 or 88 and that the person conducting the blasting activity must possess a blaster's license; (2) change the scheduling requirements applicable to the use of explosives for constructing openings for underground coal mines and changes to the requirements for protective measures to be taken when surface coal mine blasting is in proximity to a public highway or an entrance to a mine; and (3) add a category for mine opening blasting to the classifications of blaster's licenses.

We have received several requests for a public hearing on the proposed rule. We are extending the public comment period in order to afford the public more time to comment and allow enough time to schedule and hold the hearing. The date, time, and location for the public hearing may be found under DATES and ADDRESSES above.

The hearings will be open to anyone who would like to attend and/or testify. The primary purpose of the public hearing is to obtain your comments on the proposed rule so that we can prepare a complete and objective analysis of the proposal. The purpose of the hearing officer is to conduct the hearing and receive the comments submitted. Comments submitted during the hearing will be responded to in the preamble to the final rule, not at the hearing. We appreciate all comments but those most useful and likely to influence decisions on the final rule will be those that either involve personal experience or include citations to and analysis of the Surface Mining Control and Reclamation Act of 1977, its legislative history, its implementing regulations, case law, other State or Federal laws and regulations, data, technical literature, or relevant publications.

At the hearing, a court reporter will record and make a written record of the statements presented. This written record will be made part of the administrative record for the rule. If you have a written copy of your testimony, we encourage you to give us a copy. It will assist the court reporter in preparing the written record. Any disabled individual who needs reasonable accommodation to attend the hearing is encouraged to contact the person listed under FOR FURTHER INFORMATION CONTACT.

List of Subjects in 30 CFR Part 938

Intergovernmental relations, Surface mining, Underground mining.

Dated: August 23, 2006.
Michael K. Robinson,
Acting Regional Director, Appalachian Region.

[FR Doc. E6-14756 Filed 9-8-06; 8:45 am]

BILLING CODE 4310-05-P